ENVIRONMENTAL PROTECTION AGENCY

[FRL-9932-28-OSWER]

Twenty-Eighth Update of the Federal Agency Hazardous Waste Compliance Docket

AGENCY: Environmental Protection Agency (EPA).

ACTION: Notice.

SUMMARY: Since 1988, the Environmental Protection Agency (EPA) has maintained a Federal Agency Hazardous Waste Compliance Docket (“Docket”) under Section 120(c) of the Comprehensive Environmental Response, Compensation, and Liability Act (CERCLA). Section 120(c) requires EPA to establish a Docket that contains certain information reported to EPA by Federal facilities that manage hazardous waste or from which a reportable quantity of hazardous substances has been released. As explained further below, the Docket is used to identify Federal facilities that should be evaluated to determine if they pose a threat to public health or welfare and the environment and to provide a mechanism to make this information available to the public.

This notice identifies the Federal facilities not previously listed on the Docket and reported to EPA since the last update of the Docket on December 31, 2014. In addition to the list of additions to the Docket, this notice includes a section with revisions of the previous Docket list. Thus, the revisions in this update include 21 additions and 90 deletions to the Docket since the previous update. At the time of publication of this notice, the new total number of Federal facilities listed on the Docket is 2,323.

DATES: This list is current as of July 13, 2015.

FOR FURTHER INFORMATION CONTACT: Electronic versions of the Docket and more information on its implementation can be obtained at http://www2.epa.gov/fedfac/previous-federal-agency-hazardous-waste-compliance-docket-updates by clicking on the link for Update #28 to the Federal Agency Hazardous Waste Compliance Docket or by contacting Benjamin Simes (Simes.Benjamin@epa.gov), Federal Agency Hazardous Waste Compliance Docket Coordinator, Federal Facilities Restoration and Reuse Office (Mail Code 5106P), U.S. Environmental Protection Agency, 1200 Pennsylvania Avenue NW., Washington, DC 20460.

SUPPLEMENTARY INFORMATION:

Table of Contents

1.0 Introduction

2.0 Regional Docket Coordinators

3.0 Revisions of the Previous Docket

4.0 Process for Compiling the Updated Docket

5.0 Facilities Not Included

6.0 Facility NPL Status Reporting, Including NFRAP Status

7.0 Information Contained on Docket Listing

1.0 Introduction

Section 120(c) of CERCLA, 42 United States Code (U.S.C.) 9620(c), as amended by the Superfund Amendments and Reauthorization Act of 1986 (SARA), requires EPA to establish the Federal Agency Hazardous Waste Compliance Docket. The Docket contains information on Federal facilities that manage hazardous waste and such information is submitted by Federal agencies to EPA under Sections 3005, 3010, and 3016 of the Resource Conservation and Recovery Act (RCRA), 42 U.S.C. 6925, 6930, and 6937. Additionally, the Docket contains information on Federal facilities with a reportable quantity of hazardous substances that has been released and such information is submitted by Federal agencies to EPA under Section 103 of CERCLA, 42 U.S.C. 9603. Specifically, RCRA Section 3005 establishes a permitting system for certain hazardous waste treatment, storage, and disposal (TSD) facilities; RCRA Section 3010 requires waste generators, transporters and TSD facilities to notify EPA of their hazardous waste activities; and RCRA Section 3016 requires Federal agencies to submit biennially to EPA an inventory of their Federal hazardous waste facilities. CERCLA Section 103(a) requires the owner or operator of a vessel or onshore or offshore facility to notify the National Response Center (NRC) of any spill or other release of a hazardous substance that equals or exceeds a reportable quantity (RQ), as defined by CERCLA Section 101. Additionally, CERCLA Section 103(c) requires facilities that have “stored, treated, or disposed of” hazardous wastes and where there is “known, suspected, or likely releases” of hazardous substances to report their activities to EPA.

CERCLA Section 120(d) requires EPA to take steps to assure that a Preliminary Assessment (PA) be completed for those sites identified in the Docket and that the evaluation and listing of sites with a PA be completed within a reasonable time frame. The PA is designed to provide information for EPA to consider when evaluating the site for potential response action or inclusion on the National Priorities List (NPL).

The Docket serves three major purposes: (1) To identify all Federal facilities that must be evaluated to determine whether they pose a threat to human health and the environment sufficient to warrant inclusion on the National Priorities List (NPL); (2) to compile and maintain the information submitted to EPA on such facilities under the provisions listed in Section 120(c) of CERCLA; and (3) to provide a mechanism to make the information available to the public.

The initial list of Federal facilities to be included on the Docket was published in the Federal Register on February 12, 1988 (53 FR 4280). Since then, updates to the Docket have been published on November 16, 1988 (53 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222); October 2, 2001 (66 FR 50185); July 1, 2002 (67 FR 44200); January 2, 2003 (68 FR 107); July 11, 2003 (68 FR 41353); December 15, 2003 (68 FR 69685); July 19, 2004 (69 FR 42989); December 20, 2004 (69 FR 75951); October 25, 2005 (70 FR 61616); August 17, 2007 (72 FR 46218); November 25, 2008 (73 FR 71644); October 13, 2010 (75 FR 62810); November 6, 2012 (77 FR 66609), March 18, 2013 (78 FR 16668), January 6, 2014 (79 FR 654), and December 31, 2014 (79 FR 78850). This notice constitutes the twenty-eighth update of the Docket.

This notice provides some background information on the Docket. Additional information on the Docket requirements and implementation are found in the Docket Reference Manual, Federal Agency Hazardous Waste Compliance Docket found at http://www2.epa.gov/fedfac/docket-reference-manual-federal-agency-hazardous-waste-compliance-docket-interim-final or obtained by calling the Regional Docket Coordinators listed below. This notice also provides changes to the list of sites included on the Docket in three areas: (1) Additions, (2) Deletions, and (3) Corrections. Specifically, additions are newly identified Federal facilities that have been reported to EPA since the last update and now are included on the Docket; the deletions section lists Federal facilities that EPA is deleting from the Docket.¹ The information submitted to EPA on each Federal facility is maintained in the Docket repository located in the EPA Regional office of the Region in which the Federal facility is located; for a description of the information required under those provisions, see 53 FR 4280 (February 12, 1988). Each repository contains the documents submitted to EPA under the reporting provisions and correspondence relevant to the reporting provisions for each Federal facility.

¹ See Section 3.2 for the criteria for being deleted from the Docket.

In prior updates, information was also provided regarding No Further Remedial Action Planned (NFRAP) status changes. However, information on NFRAP and NPL status is no longer being provided separately in the Docket update as it is now available at: http://www2.epa.gov/fedfac/previous-federal-agency-hazardous-waste-compliance-docket-updates or by contacting the EPA HQ Docket Coordinator at the address provided in the FOR FURTHER INFORMATION CONTACT section of this notice.

2.0 Regional Docket Coordinators

Contact the following Docket Coordinators for information on Regional Docket repositories:

Martha Bosworth (HBS), US EPA Region 1, 5 Post Office Square, Suite 100, Mail Code: OSRR07-2, Boston MA 02109-3912, (617) 918-1407.

Helen Shannon (ERRD), US EPA Region 2, 290 Broadway, New York, NY 10007-1866, (212) 637- 4260.

Joseph Vitello (3HS12), US EPA Region 3, 1650 Arch Street, Philadelphia, PA 19107, (215) 814-3354.

Dawn Taylor (4SF-SRSEB), US EPA Region 4, 61 Forsyth St., SW., Atlanta, GA 30303, (404) 562-8575.

Michael Chrystof (SR-6J), US EPA Region 5, 77 W. Jackson Blvd., Chicago, IL 60604, (312) 353-3705.

Philip Ofosu (6SF-RA), US EPA Region 6, 1445 Ross Avenue, Dallas, TX 75202-2733, (214) 665-3178.

Paul Roemerman (SUPRERSP), US EPA Region 7, 11201 Renner Blvd., Lenexa, KS 66219, (913) 551-7694.

Ryan Dunham (EPR-F), US EPA Region 8, 1595 Wynkoop Street, Denver, CO 80202, (303) 312-6627.

Leslie Ramirez (SFD-6-1), US EPA Region 9, 75 Hawthorne Street, San Francisco, CA 94105, (415) 972-3978.

Monica Lindeman (ECL, ABU), US EPA Region 10, 1200 Sixth Avenue, Suite 900, ECL-112, Seattle, WA 98101, (206) 553-5113.

3.0 Revisions of the Previous Docket

This section includes a discussion of the additions and deletions to the list of Docket facilities since the previous Docket update.

3.1 Additions

In this notice, 21 Federal facilities are being added to the Docket, primarily because of new information obtained by EPA (for example, recent reporting of a facility pursuant to RCRA Sections 3005, 3010, or 3016 or CERCLA Section 103). CERCLA Section 120, as amended by the Defense Authorization Act of 1997, specifies that EPA take steps to assure that a Preliminary Assessment (PA) be completed within a reasonable time frame for those Federal facilities that are included on the Docket. Among other things, the PA is designed to provide information for EPA to consider when evaluating the site for potential response action or listing on the NPL.

3.2 Deletions

In this notice, 90 Federal facilities are being deleted from the Docket. There are no statutory or regulatory provisions that address deletion of a facility from the Docket. However, if a facility is incorrectly included on the Docket, it may be deleted from the Docket. The criteria EPA uses in deleting sites from the Docket include: A facility for which there was an incorrect report submitted for hazardous waste activity under RCRA (e.g., 40 CFR 262.44); a facility that was not Federally-owned or operated at the time of the listing; a facility included more than once (i.e., redundant listings); or when multiple facilities are combined under one listing. (See Docket Codes (Categories for Deletion of Facilities) for a more refined list of the criteria EPA uses for deleting sites from the Docket. Facilities being deleted no longer will be subject to the requirements of CERCLA Section 120(d).

3.3 Corrections

Changes necessary to correct the previous Docket are identified by both EPA and Federal agencies. The corrections section may include changes in addresses or spelling, and corrections of the recorded name and ownership of a Federal facility. In addition, changes in the names of Federal facilities may be made to establish consistency in the Docket or between the Superfund Enterprise Management System (SEMS) and the Docket. For the Federal facility for which a correction is entered, the original entry is as it appeared in previous Docket updates. The corrected update is shown directly below, for easy comparison. This notice includes 68 corrections.

4.0 Process for Compiling the Updated Docket

In compiling the newly reported Federal facilities for the update being published in this notice, EPA extracted the names, addresses, and identification numbers of facilities from four EPA databases—the Emergency Response Notification System (ERNS), the Biennial Inventory of Federal Agency Hazardous Waste Activities, the Resource Conservation and Recovery Act Information System (RCRAInfo), and CERCLIS—that contain information about Federal facilities submitted under the four provisions listed in CERCLA Section 120(c).

EPA assures the quality of the information on the Docket by conducting extensive evaluation of the current Docket list with the information obtained from the databases identified above to determine which Federal facilities were, in fact, newly reported and qualified for inclusion on the update. EPA is also striving to correct errors for Federal facilities that were previously reported. For example, state-owned or privately-owned facilities that are not operated by the Federal government may have been included. Such problems are sometimes caused by procedures historically used to report and track Federal facilities data. Representatives of Federal agencies are asked to write to the EPA HQ Docket Coordinator at the address provided in the FOR FURTHER INFORMATION CONTACT section of this notice if revisions of this update information are necessary.

5.0 Facilities Not Included

Certain categories of facilities may not be included on the Docket, such as: (1) Federal facilities formerly owned by a Federal agency that at the time of consideration was not Federally-owned or operated; (2) Federal facilities that are small quantity generators (SQGs) that have never generated more than 1,000 kg of hazardous waste in any month; (3) Federal facilities that are solely hazardous waste transportation facilities, as reported under RCRA Section 3010; and (4) Federal facilities that have mixed mine or mill site ownership.

An EPA policy issued in June 2003 provided guidance for a site-by-site evaluation as to whether “mixed ownership” mine or mill sites, typically created as a result of activities conducted pursuant to the General Mining Law of 1872 and never reported under Section 103(a), should be included on the Docket. For purposes of that policy, mixed ownership mine or mill sites are those located partially on private land and partially on public land. This policy is found at http://www2.epa.gov/fedfac/policy-listing-mixed-ownership-mine-or-mill-sites-created-result-general-mining-law-1872. The policy for not including these facilities may change; facilities now not included may be added at some point if EPA determines that they should be included.

6.0 Facility NPL Status Reporting, Including NFRAP Status

EPA typically tracks the NPL status of Federal facilities listed on the Docket. An updated list of the NPL status of all Docket facilities, as well as their NFRAP status, is available at http://www2.epa.gov/fedfac/previous-federal-agency-hazardous-waste-compliance-docket-updates or by contacting the EPA HQ Docket Coordinator at the address provided in the FOR FURTHER INFORMATION CONTACT section of this notice. In prior updates, information regarding NFRAP status changes was provided separately.

7.0 Information Contained on Docket Listing

The updated information is provided in three tables. The first table is a list of new Federal facilities that are being added to the Docket, the second table is a list of Federal facilities that are being deleted from the Docket, and the third table is for corrections.

The Federal facilities listed in each table are organized by the date reported. Under each heading is listed the name and address of the facility, the Federal agency responsible for the facility, the statutory provision(s) under which the facility was reported to EPA, and a code.² The code key precedes the lists.

² Each Federal facility listed in the update has been assigned a code that indicates a specific reason for the addition or deletion. The code precedes this list.

The statutory provisions under which a Federal facility is reported are listed in a column titled “Reporting Mechanism.” Applicable mechanisms are listed for each Federal facility: for example, Sections 3005, 3010, 3016, 103(c), or Other. “Other” has been added as a reporting mechanism to indicate those Federal facilities that otherwise have been identified to have releases or threat of releases of hazardous substances. The National Contingency Plan 40 CFR 300.405 addresses discovery or notification, outlines what constitutes discovery of a hazardous substance release, and states that a release may be discovered in several ways, including: (1) A report submitted in accordance with Section 103(a) of CERCLA, i.e., reportable quantities codified at 40 CFR part 302; (2) a report submitted to EPA in accordance with Section 103(c) of CERCLA; (3) investigation by government authorities conducted in accordance with Section 104(e) of CERCLA or other statutory authority; (4) notification of a release by a Federal or state permit holder when required by its permit; (5) inventory or survey efforts or random or incidental observation reported by government agencies or the public; (6) submission of a citizen petition to EPA or the appropriate Federal facility requesting a preliminary assessment, in accordance with Section 105(d) of CERCLA; (7) a report submitted in accordance with Section 311(b)(5) of the Clean Water Act; and (8) other sources. As a policy matter, EPA generally believes it is appropriate for Federal facilities identified through the CERCLA discovery and notification process to be included on the Docket.

The complete list of Federal facilities that now make up the Docket and the NPL and NFRAP status are available to interested parties and can be obtained at http://www2.epa.gov/fedfac/previous-federal-agency-hazardous-waste-compliance-docket-updates by clicking on the link for Federal Agency Hazardous Waste Compliance Docket Update #28 or by contacting the EPA HQ Docket Coordinator at the address provided in the FOR FURTHER INFORMATION CONTACT section of this notice. As of the date of this notice, the total number of Federal facilities that appear on the Docket is 2,323.

Dated: August 3, 2015.
Charlotte Bertrand,
Acting Director, Federal Facilities Restoration and Reuse Office, Office of Solid Waste and Emergency Response.

Categories for Deletion of Facilities

(1) Small-Quantity Generator.Show citation box.

(2) Never Federally Owned and/or Operated.

(3) Formerly Federally Owned and/or Operated but not at time of listing.

(4) No Hazardous Waste Generated.

(5) (This code is no longer used.)

(6) Redundant Listing/Site on Facility.

(7) Combining Sites Into One Facility/Entries Combined.

(8) Does Not Fit Facility Definition.

Categories for Addition of Facilities

(15) Small-Quantity Generator with either a RCRA 3016 or CERCLA 103 Reporting Mechanism.

(16) One Entry Being Split Into Two (or more)/Federal Agency Responsibility Being Split.

(17) New Information Obtained Showing That Facility Should Be Included.

(18) Facility Was a Site on a Facility That Was Disbanded; Now a Separate Facility.

(19) Sites Were Combined Into One Facility.

(19A) New Currently Federally Owned and/or Operated Facility Site.

Categories for Corrections of Information About Facilities

(20) Reporting Provisions Change.

(20A) Typo Correction/Name Change/Address Change.

(21) Changing Responsible Federal Agency. (If applicable, new responsible Federal agency submits proof of previously performed PA, which is subject to approval by EPA.)

(22) Changing Responsible Federal Agency and Facility Name. (If applicable, new responsible Federal Agency submits proof of previously performed PA, which is subject to approval by EPA.)

(24) Reporting Mechanism Determined To Be Not Applicable After Review of Regional Files.

Federal Agency Hazardous Waste Compliance Docket Update #28—Additions
Facility name | Address | City | State | Zip code | Agency | Reporting mechanism | Code
FEDERAL LAW ENFORCMENT TRAINING CENTER | CHAPEL CROSSING RD | GLYNCO | GA | 31524 | Department of Homeland Security | RCRA 3010 | 19A
USCG Gull Rock Light Station | 2.5 Miles E of Keweenaw Point on Keweenaw Peninsula | COPPER HARBOR | MI | 49918 | Department of Homeland Security | OTHER | 19A
USCG Manitou Island Light Station | 5.1 Miles E of Keweenaw Point on Keweenaw Peninsula | COPPER HARBOR | MI | 49918 | Department of Homeland Security | OTHER | 19A
BLM QUESTAR PIPELINE COMPANY EAKIN STATION | HIGHWAY 189 N | KEMMERER | WY | 83101 | Department of Interior | RCRA 3010 | 19A
DEPARTMENT OF VETERANS AFFAIRS KERRVILLE | 3600 MEMORIAL | KERRVILLE | TX | 78028 | Department of Veteran Affairs | RCRA 3010 | 19A
JAMES J PETERS VA MEDICAL CENTER | 130 WEST KINGSBRIDGE ROAD ROOM GC-100 | BRONX | NY | 10468 | Department of Veteran Affairs | RCRA 3010 | 19A
DEPT OF VETERANS AFFAIRS NY HARBOR HEALTHCARE SYSTEM MANHATTAN CAMPUS | 423 E 23RD ST | NEW YORK | NY | 10010 | Department of Veteran Affairs | RCRA 3010 | 19A
FEDERAL BUREAU OF INVESTIGATION | 935 PENNSYLVANIA AVENUE, NW | WASHINGTON | DC | 20535 | Department of Justice | RCRA 3010 | 19A
GAINESVILLE JOB CORPS CENTER | N.E. 40TH TERRACE | GAINESVILLE | FL | 32609 | Department of Labor | RCRA 3010 | 19A
US DOT ST LAWRENCE SEAWAY DEVELOPMENT CORP EISENHOWER LOCK | 76 Barnhart Island Road | Massena (NY) | NY | 13662 | Department of Transportation | RCRA 3010 | 19A
U.S. EPA, REGION 3, ENVIRONMENTAL SCIENCE CENTER | MAPES ROAD | FORT MEADE | MD | 20755 | EPA | RCRA 3010 | 19A
FEDERICO DEGETAU FEDERAL OFFICE BUILDING—INDOOR FIRING RANGE | 150 Carlos Chardon Ave Room 359 (539) | San Juan | PR | 00918 | General Services Administration | RCRA 3010 | 19A
CENTERS FOR DISEASE CONTROL AND PREVENTION | CLIFTON RD MS-F05 | ATLANTA | GA | 30333 | Health and Human Services | RCRA 3010 | 19A
NASA-Johnson Space Center, BUILDING 319 | 2101 NASA Parkway | Houston | TX | 77058 | NASA | CERCLA 103 | 19A
SMITHSONIAN INSTITUTION | 2 East 91st St | New York | NY | 10128 | Smithsonian Board of Regents | RCRA 3010 | 19A
JOINT BASE LANGLEY-EUSTIS | SWEENEY BLVD | HAMPTON | VA | 23665-2769 | U.S. AIR FORCE | RCRA 3010 | 19A
AIR FORCE MEDICAL OPERATIONS AGENCY AFMOA | 601 DAVY CROCKETT RD | SAN ANTONIO | TX | 78226-1885 | U.S. AIR FORCE | RCRA 3010 | 19A
US ARMY RESERVE CENTER | 18960 S HALSTED ST | HOMEWOOD | IL | 60430 | U.S. ARMY | RCRA 3010 | 19A
US ARMY CORPS OF ENGINEERS WHITNEY POINT LAKE AND DAM | 5327 Upper Lisle Road—Rt. 26N | Whitney Point | NY | 13862 | U.S. ARMY | RCRA 3010 | 19A
U.S.ARMY, FORT POLK | WARRIOR TRAIL, BLDG 350 | FORT POLK | LA | 71459 | U.S. ARMY | RCRA 3010 | 19A
US ARMY, WARRENTON TRAINING CENTER, STATION C | PO BOX 700 | WARRENTON | VA | 20186 | Department of Homeland Security | RCRA 3010, 103(c) | 19A

Federal Agency Hazardous Waste Compliance Docket Update #28—Deletions
Facility name | Address | City | State | Zip code | Agency | Reporting mechanism | Code
Harry S. Truman Animal Import Center | Fleming Key | Key West | FL | 33041 | Dept of Agriculture | 103c | 1
Coastal Plains Experiment Station | P.O. Box 748 | Tifton | GA | 31793 | Dept of Agriculture | 3016 | 1
FS-National Tree Seed Lab | Riggins Mill Rd | Dry Branch | GA | 31020 | Dept of Agriculture | 3010 | 1
Nantahala Nf: Graham County Landfill | North of Snowbird Mountain | Robbinsville | NC |  | Dept of Agriculture | 3016, 103c | 7
Tongass NF | Coffman Road |  |  |  | Dept of Agriculture |  | 2
Charleston National Marine Fisheries Service | 217 Fort Johnson Rd | Charleston | SC | 29412 | Dept of Commerce | 3010 | 1
Monks Corner Army Air Force Depot |  | Monks Corner | SC |  | Dept of Defense | 103c | 1
Usdoe Site 011 Power Plant |  | Paducah | TN |  | Dept of Energy | 103a | 6
Usdoe Y-12 Plant/Mixed | Bear Creek Road | Oak Ridge | TN | 37831 | Dept of Energy | 103a | 6
CG-Cape Canaveral Light | 9235 Grouper Rd | Cape Canaveral | FL | 33131 | Dept of Homeland Security | 3010 | 1
CG-Carysfort Reef Light | 100 Macarthur Causeway | Miami Beach | FL | 33131 | Dept of Homeland Security | 3010 | 1
CG-Hillsboro Light | Hillsboro Inlet | Pompano Beach | FL | 33131 | Dept of Homeland Security | 3010 | 4
CG-Sand Key Light | Cg Group Key W Trumbo Pt Annex | Key West | FL | 33131 | Dept of Homeland Security | 3010 | 6
FWS-Wheeler National Wildlife Refuge | 2700 Refuge Headquarters Road | Decatur | AL | 35603-5202 | Dept of Interior | 3016, 103c | 1
Charleston Harbor Site |  | Charleston | SC |  | Dept of Interior | 103c | 6
Great Smoky Mtns Natl Park | USNPS Rt 2 | Gatlinburg | TN | 37738 | Dept of Interior | 3005, 3010, 103c | 6
Schlegel Maryland Inc. | Bldg.115 Lynchburg Dr | Chestertown | MD | 21620 | Dept of Interior | 3010 | 1
BIA Chinle Boarding School | Hwy 191 15 Mi N of Chinle | Many Farms | AZ | 86538 | Dept of Interior | 3010 | 4
Afton Canyon Union Pacific Railroad |  |  | CA |  | Dept of Interior | 3016 | 2
BLM-Afton Canyon Union Pacific Railroad | Sections 13, 14, 18, 19, 20, 21 &22, T11N, R6E | Newberry Springs | CA | 92365 | Dept of Interior | 3016 | 2
Unicor Federal Prison Industries | 565 E Renfroe Rd | Talladega | AL | 35160 | Dept of Justice | 3010 | 1
Tamiami International Flight Service Transmitter | West of Chrome Avenue | Miami | FL |  | Dept of Transportation | 103a | 2
FAA-Raleigh Durham International Airport | Raleigh, NC | Raleigh | NC |  | Dept of Transportation | 103a | 1
VA Medical Center | 1 Freedom Way | Augusta | GA | 30904 | Dept of Veteran Affairs | 3010 | 1
National Air Radiation Environment Laboratory | 1504 Avenue A | Montgomery | AL | 36115-2601 | EPA | 103c, 3010 | 1
US EPA Annex | 79 T W Alexander Dr | Rtp | NC | 27711 | EPA | 3010 | 6
Fairview Substation | Fairview Substation | Fairview | AL |  | Tennessee Valley Authority | 103a, 3010 | 1
Hanceville Substation |  | Hanceville | AL |  | Tennessee Valley Authority | 103a | 6
Muscle Shoals Garage | Tva Reservation | Muscle Shoals | AL | 35660 | Tennessee Valley Authority | 3010, 103c | 1
Trinity 500-Kv Substation | Woodall Road at Ipeco Road | Decatur | AL | 35801 | Tennessee Valley Authority | 3010 | 1
TVA Hazardous Storage Facility | Rt 2 | Muscle Shoals | AL |  | Tennessee Valley Authority | 103a | 6
Boone Hydro Plant | TN Hwy 75/8 mi SE of | Kingsport | TN | 37662 | Tennessee Valley Authority | 103a, 3010 | 6
Knoxville Garage | 4216 Greenway | Knoxville | TN | 37902 | Tennessee Valley Authority | 103c, 3010, 3005 | 4
Spring City Substation | Highway 27 | Spring City | TN |  | Tennessee Valley Authority | 103a | 6
Tennessee Valley Authority | Highway 69A | Big Sandy | TN | 38221 | Tennessee Valley Authority | 3010 | 4
Transportation Security Administration at Guam International Airport | Chalan Pasaheru Street | Tamuning | GU | 96913 | Transportation Security Administration | 3010 | 1
Martin-Gadsden Air National Guard Station | Gadsden Municipal Airport | Gadsden | AL |  | U.S. Air Force | 103c, 3010 | 2
Montgomery Air National Guard | 4600 S Richardson Rd, P.O. Box 250224 | Montgomery | AL | 36108 | U.S. Air Force | 3016 | 2
Cape Canaveral Air Force Base | 6550 Abg/Deev | Patrick AFB | FL | 32925 | U.S. Air Force | 3005, 3010, 3016, 103c, 103a | 6
Garden City Air National Guard Training Site | Savannah International Airport | Garden City | GA | 31408 | U.S. Air Force | 3010 | 2
Savannah Air National Guard | 165 Alg, 1401 Robert B Miller Jr Dr, Savannah Iap | Garden City | GA | 31408 | U.S. Air Force | 3016 | 2
Kentucky Air National Guard Standiford Field | 1019 Old Grade Ln, 123 Aw/Em | Louisville | KY | 40213 | U.S. Air Force | 103c, 3016 | 2
172nd Airlift Wing | 141 Military Drive | Jackson | MS | 39208 | U.S. Air Force | 3010 | 2
Donaldson Air Industrial Center |  | Greenville | SC |  | U.S. Air Force | 103c | 2
164th Airlift Wing |  | Memphis | TN | 37000 | U.S. Air Force | 3010 | 2
Mcghee Tyson Air National Guard Base | Mcghee Tyson Airport | Knoxville | TN | 37901 | U.S. Air Force | 103c, 3010, 3016 | 2
Nashville Air National Guard | 240 Knapp Blvd | Nashville | TN | 37217 | U.S. Air Force | 3016, 3010 | 2
Utah Test And Training Range | 6.5 M. SE Of Wendover | Wendover | UT | 89835 | U.S. Air Force | 103c | 6
Onizuka Air Force Station | 6594 ABS/CC | Sunnyvale | CA | 94088 | U.S. Air Force | 3010, 103c | 3
Southern California Aviation | 18438 Readiness Street | Victorville | CA | 92394 | U.S. Air Force | 3010 | 3
Space Launch Complex 4 East | 747 Nebraska Ave | Vandenberg AFB, San Diego | CA | 92101 | U.S. Air Force | 3010 | 3
Coosa River Storage Annex | 4 Miles NE Hwy 202 | Talladega | AL | 35160 | U.S. Army | 103c | 7
Evans Army Reserve Center | 507 Westgage Parkway | Dothan | AL | 36303 | U.S. Army | 3010 | 4
US Army Aviation Center Cairns | Alabama Highway 85 | Daleville | AL | 36322-5000 | U.S. Army | 3010 | 6
USPFO For Kentucky | 120 Minuteman Pkwy (Bldg120) | Frankfort | KY | 40601-6192 | U.S. Army | 3010, 103c | 2
Camp Mccain National Guard | P.O. Box 686 | Elliott | MS | 38926 | U.S. Army | 3010, 3016 | 1
Fort Fisher Training Site | Natl Grd Trng Center | Kure Beach | NC | 28449 | U.S. Army | 3016 | 1
Wilmington Organizational Maintenance Shop #17 | 1401 N Kerr Ave | Wilmington | NC | 28405 | U.S. Army | 3016 | 1
Milan Utes | 4 Miles South | Milan | TN | 38350 | U.S. Army | 3016 | 6
Smyrna-Grubbs Kyle Training Site | 1 Mile North, Smyrna | Smyrna | TN | 37167 | U.S. Army | 3016 | 2
Tullahoma Training Site | One Mile East | Tullahoma | TN | 37388 | U.S. Army | 3016 | 6
Soldier Support Center | Building #28, Marion County | Fort Benjamin Harrison | IN | 46216 | U.S. Army | 3010 | 6
Newton Falls-Utes 1 | 8 Miles Rte 2 | Newton Falls | OH | 44444 | U.S. Army | 3016 | 6
Peoria Army Maintenance Support Activity 48G | 3523 W Farmington Rd | Peoria | IL | 61604 | U.S. Army | 3010 | 3
Lawrenceville Coe-Chicago District | P.O. Box 195, Route 4 | Lawrenceville | IL | 62439 | U.S. Army | 3010 | 6
Chicago District | Rte 100 | Grafton | IL | 62037 | U.S. Army | 3010 | 6
Middletown Organizational Maintenance Shop #3 | 500 N Cross Street | Middletown | DE | 19709 | U.S. Army | 3016 | 2
Milford Organizational Maintenance Shop #5A | N Walnut Street | Milford | DE | 19963 | U.S. Army | 3016 | 2
Armed Forces Institute of Pathology | 16050 Industrial Drive, Ste 100 | Gaithersburg | MD | 20877 | U.S. Army | 3010 | 1
Olney | 5115 Riggs Road | Olney | MD | 20879 | U.S. Army | 3016 | 2
Greensburg Amsa 104 W | 2150 Hunter Road | Greensburg | PA | 15601 | U.S. Army | 3010 | 1
Aafes Newport News District Center | 231 Enterprise Drive | Newport News | VA | 23603 | U.S. Army | 3010 | 1
West Virginia (WV) Army National Guard | Camp Dawson ATS | Kingwood | WV | 25550 | U.S. Army | 103c | 2
TCR Composites (Prev. Atk Space System) | 530 West | Ogden | UT | 84404 | U.S. Army | 3010 | 6
Cross Florida Barge Canal (Buckman Lock), Saj | Near State Rt 40 At Canal | Palatka | FL | 32177 | U.S. Army Corps of Engineers | 3016 | 1
Greenup Lock And Dam | 5121 New Dam Road | Greenup | KY | 41144 | U.S. Army Corps of Engineers | 3010 | 1
Shelbiana Site | Route 1, Box 501 | Shelbiana | KY | 41562 | U.S. Army Corps of Engineers | 3010 | 1
Arkabutla Lake Field Office | Arkabutla Lake | Coldwater | MS | 38618 | U.S. Army Corps of Engineers | 3010 | 1
Grenada | Youngs Landing | Grenada | MS | 38901 | U.S. Army Corps of Engineers | 103a | 1
Sardis Lake Field Office, Lmk | Highway 315 (Rt 2, Box 500) | Sardis | MS | 38668 | U.S. Army Corps of Engineers | 3016 | 1
Nolf Barin Reid, Foley |  | Foley | AL |  | U.S. Navy | 103c | 6
Jacksonville Naval Supply Center | P.O. Box 26938 | Jacksonville | FL | 32226-6938 | U.S. Navy | 103c, 3005, 103a | 6
Naval Training Center, Orlando | 8th Street/NTC | Orlando | FL | 32813 | U.S. Navy | 103 | 6
NTTC Cony Station |  | Pensacola | FL |  | U.S. Navy | 103c | 6
Saufley Field Netpsa |  |  | FL |  | U.S. Navy | 103c, 3010 | 6
USN Defense Property Disposal | Naval Training Center | Orlando | FL | 32813 | U.S. Navy | 3010 | 6
Naval Support Activity Mid-South (Brac Nas Memphis) | 5722 Integrity Drive | Millington | TN | 38054-5045 | U.S. Navy | 3005, 3010, 3016, 103c,103a | 6
Charleston Postal Service | 602 Donnelly St | Charleston | WV | 25301 | U.S. Postal Service | 3010 | 1
Cave Run Lake | Bridge at Cave Run Lake | Morehead | KY | 40351 | UNKNOWN | 3010 | 4
Iaeger Pcb Site | Near Lick Branch | Iaeger | WV |  | UNKNOWN | 103c | 2

Federal Agency Hazardous Waste Compliance Docket Update #28—Corrections
Facility name | Address | City | State | Zip code | Agency | Reporting mechanism | Code
Smithsonian Inst-Natural History Bldg | 10th & Constitution Avenue NW | Washington | DC | 20560 | *** Unknown *** | RCRA 3010
Smithsonian Inst-Natural History Bldg | 10th & Constitution Avenue NW | Washington | DC | 20560 | Smithsonian Board of Regents | RCRA 3010 | 21
Catron County Shooting Range | PO Box 170 | Reserve | NM | 87830 | Agriculture-Forest Service | RCRA 3010
Gila National Forest: Catron County Shooting Range—Reserve | PO Box 170 | Reserve | NM | 87830 | Department of Agriculture | RCRA 3010 | 21
Gila National Forest | Forest Route 701 3.5 Mi E of Hwy 180 |  |  |  | Agriculture
Gila National Forest: Mineral Creek Tailing | Forest Route 701 3.5 Mi E of Hwy 180 |  |  |  | Department of Agriculture |  | 20A
King Edward Mine | 18 Mi NW of Blanding | Blanding | UT | 84511 | Agriculture-Forest Service | CERCLA 103
King Edward Mine | 18 Mi NW of Blanding | Blanding | UT | 84511 | Department of Agriculture | CERCLA 103 | 21
USDA FS Boise Nf: Belshazzar Mine | Granite Creek Road, 3 Mi W of Placerville, T7N R4E Sec 17, Boise Meridian | Placerville | ID | 83666 | Agriculture-Forest Service | Other
USDA FS Boise Nf: Belshazzar Mine | Granite Creek Road, 3 Mi W of Placerville, T7N R4E Sec 17, Boise Meridian | Placerville | ID | 83666 | Department of Agriculture | Other | 21
USDA FS Caribou-Targhee Nf: Smoky Canyon Mine Site | Smoky Canyon Rd/Fs Rd 110, 24 Mi E of Soda Springs, T8S R45E Sec 24, 25 & 36; T8S R46E Sec 17, 18, 1 | Soda Springs | ID | 83276 | Agriculture-Forest Service | Other
USDA FS Caribou-Targhee Nf: Smoky Canyon Mine Site | Smoky Canyon Rd/Fs Rd 110, 24 Mi E of Soda Springs, T8S R45E Sec 24, 25 & 36; T8S R46E Sec 17, 18, 1 | Soda Springs | ID | 83276 | Department of Agriculture | Other | 21
USDA FS Mt. Baker-Snoqualmie Nf: Rainy Mine & Mill Site | Fs Rd 5640, 12 Mi NE of North Bend, T24N R10E Sec 9 & 16, Willamette Meridian | North Bend | WA | 98045 | Agriculture-Forest Service | Other
USDA FS Mt. Baker-Snoqualmie Nf: Rainy Mine & Mill Site | Fs Rd 5640, 12 Mi NE of North Bend, T24N R10E Sec 9 & 16, Willamette Meridian | North Bend | WA | 98045 | Department of Agriculture | Other | 21
Camp Lonely Landfill Site | Pitt Point, 1 Mi W of Pt. Lonely, W Edge of Gravel Path, T18N R5W, Sec18 Se1/4, Umiat Meridian | Niuiqsuit | AK | 99789 | USda-Fs | RCRA 3010
Camp Lonely Landfill Site | Pitt Point, 1 Mi W of Pt. Lonely, W Edge of Gravel Path, T18N R5W, Sec18 Se1/4, Umiat Meridian | Niuiqsuit | AK | 99789 | Department of Interior | RCRA 3010 | 21
Opheim Radar Station | 2 Miles West of Opheim | Opheim | MT | 59250 | *** Unknown *** | CERCLA 103
Opheim Radar Station | 2 Miles West of Opheim | Opheim | MT | 59250 | US Air Force | CERCLA 103 | 21
Pease Air Force Base | 509 Csg/Cc | Portsmouth | NJ | 03801 | Air Force | RCRA 3005
Pease Air Force Base | 509 Csg/Cc | Portsmouth | NH | 03801 | US Air Force | RCRA 3005 | 20A
U.S. Defense Fuel Support Support Point | Trundy Road Box 112 | Searsport | ME | 04974 | Defense Logistics Agency | RCRA 3010
U.S. Defense Fuel Support Point | Trundy Road Box 112 | Searsport | ME | 04974 | Defense Logistics Agency | RCRA 3010 | 21
Defense National Stockpile Center | 710 Ordinance Rd | Baltimore | MD | 21226 | Defense Logistics Agency | RCRA 3005
Former Curtis Bay Depot | 710 Ordnance Rd | Baltimore | MD | 21226 | Defense Logistics Agency | RCRA 3005 | 21
Defense Depot Memphis | 2163 Airways Blvd | Memphis | TN | 38114 | Defense Logistics Agency | RCRA 3005
Defense Depot Memphis | 2163 Airways Blvd | Memphis | TN | 38114 | U.S. Army | RCRA 3005 | 21
Ogden Defense Depot | 500 West 12th Street | Ogden | UT | 84407-5000 | Defense Logistics Agency | RCRA 3016
Ogden Defense Depot | 500 West 12th Street | Ogden | UT | 84407-5000 | U.S. Army | RCRA 3016 | 21
NGA?-Bethesda | 4600 Sangamore Road | Bethesda | MD | 20816 | National Geospatial | RCRA 3010
NGA-Bethesda | 4600 Sangamore Road | Bethesda | MD | 20816 | Department of Defense | RCRA 3010 | 22
NGA-Washington Navy Yard | 1st St & M St. SE | Washington | DC | 20374 | National Geospatial | RCRA 3010
NGA-Washington Navy Yard | 1st St & M St. SE | Washington | DC | 20374 | Department of Defense | RCRA 3010 | 21
NGA-St. Louis | 3200 S. Second Street | St. Louis | MO | 63118 | National Geospatial | RCRA 3010
NGA-St. Louis | 3200 S. Second Street | St. Louis | MO | 63118 | Department of Defense | RCRA 3010 | 21
NGA-St. Louis | 8900 S. Broadway | St. Louis | MO | 63118 | National Geospatial | RCRA 3010
NGA-St. Louis | 8900 S. Broadway | St. Louis | MO | 63118 | Department of Defense | RCRA 3010 | 21
Job Corps Center-St Louis | E Natural Bridge Ave & Goodfellow Blvd | St Louis | MO | 63120 | *** Unknown *** | CERCLA 103
Job Corps Center-St Louis | E Natural Bridge Ave & Goodfellow Blvd | St Louis | MO | 63120 | Department of Labor | CERCLA 103 | 21
Old Saint Louis Base | Foot of Iron St. & Mississippi River | St Louis | MO | 63111 | Homeland Security-Coast Guard | CERCLA 103
USCG Old Saint Louis Base | Foot of Iron St. & Mississippi River | St Louis | MO | 63111 | Department of Homeland Security | CERCLA 103 | 21
USHS CG Burrows Island Light Station | SW Side of Burrows Island, 5 Mi SW of Anacortes | Anacortes | WA | 98221 | Homeland Security-Coast Guard | RCRA 3010
USCG Burrows Island Light Station | SW Side of Burrows Island, 5 Mi SW of Anacortes | Anacortes | WA | 98221 | Department of Homeland Security | RCRA 3010 | 21
Manchester Housing and Development Authority | 83 Trahan Street | Manchester | NH | 03103 | *** Unknown *** | RCRA 3010
Manchester Housing and Development Authority | 83 Trahan Street | Manchester | NH | 03103 | Housing and Urban Development | RCRA 3010 | 21
USDOI BIA Signal Peak Ranger Station | Bia 140 Rd-Signal Peak Road, 24 Mi SW of White Swan, T9N R13E Sec 25, Willamette Meridian | White Swan | WA | 98952 | Interior-Bureau of Indian Affairs | RCRA 3010
USDOI BIA Signal Peak Ranger Station | Bia 140 Rd-Signal Peak Road, 24 Mi SW of White Swan, T9N R13E Sec 25, Willamette Meridian | White Swan | WA | 98952 | Department of Interior | RCRA 3010 | 21
BLM Eagle County Landfill | T.4. N.R.83.W. Sec.10 & 11 | Eagle | CO | 81613 | Interior-Bureau of Land Management | CERCLA 103
BLM Eagle County Landfill | T.4. N.R.83.W. Sec.10 & 11 | Eagle | CO | 81613 | Department of Interior | CERCLA 103 | 21
BLM Fremont | T.48.N.R.12.E. Sec.19 | Cotopaxi | CO | 81223 | Interior-Bureau of Land Management | CERCLA 103
BLM Fremont | T.48.N.R.12.E. Sec.19 | Cotopaxi | CO | 81223 | Department of Interior | CERCLA 103 | 21
BLM Illegal Airstrip John Greytak | Section 6 T.11N.R.27.E | Flatwillow | MT | 59059 | Interior-Bureau of Land Management | CERCLA 103
BLM Illegal Airstrip John Greytak | Section 6 T.11N.R.27.E | Flatwillow | MT | 59059 | Department of Interior | CERCLA 103 | 21
BLM Kremmling Dump | T.1.N.R.80.E. Sec.9 | Kremmling | CO | 80459 | Interior-Bureau of Land Management | CERCLA 103
BLM Kremmling Dump | T.1.N.R.80.E. Sec.9 | Kremmling | CO | 80459 | Department of Interior | CERCLA 103 | 21
BLM Roundup Landfill | 1.5 Miles Northwest of Roundup | Roundup | MT | 59072 | Interior-Bureau of Land Management | CERCLA 103
BLM Roundup Landfill | 1.5 Miles Northwest of Roundup | Roundup | MT | 59072 | Department of Interior | CERCLA 103 | 21
BLM San Miguel Landfill #1 | T.44.N.R.15.W. Sec.26 | Naturita | CO | 81422 | Interior-Bureau of Land Management | CERCLA 103
BLM San Miguel Landfill #1 | T.44.N.R.15.W. Sec.26 | Naturita | CO | 81422 | Department of Interior | CERCLA 103 | 21
BLM Sluice Gulch Leaking Adit | T.6.Sr.15.W. Sec.5 | Phillipsburg | MT | 59858 | Interior-Bureau of Land Management | CERCLA 103
BLM Sluice Gulch Leaking Adit | T.6.Sr.15.W. Sec.5 | Phillipsburg | MT | 59858 | Department of Interior | CERCLA 103 | 21
BLM Steamboat Point | T.25.N.R.10.E. Sec.18 Pmm | Loma | MT | 59460 | Interior-Bureau of Land Management | CERCLA 103
BLM Steamboat Point | T.25.N.R.10.E. Sec.18 Pmm | Loma | MT | 59460 | Department of Interior | CERCLA 103 | 21
BLM-Maybell Dump | 6 Mi East of Maybell | Maybell | CO | 81640 | Interior-Bureau of Land Management | CERCLA 103
BLM-Maybell Dump | 6 Mi East of Maybell | Maybell | CO | 81640 | Department of Interior | CERCLA 103 | 21
BLM-Montrose County Dump | 4 Mi NE Montrose T48N R19W Sec22 | Montrose | CO | 81401 | Interior-Bureau of Land Management | CERCLA 103
BLM-Montrose County Dump | 4 Mi NE Montrose T48N R19W Sec22 | Montrose | CO | 81401 | Department of Interior | CERCLA 103 | 21
BLM Chaffee County Landfill | T.51.N.R.8.E. Sec.21, U.S. Hwy 285 10M North of Salida | Salida | CO | 81201 | Interior-Bureau of Land Management | CERCLA 103
BLM Chaffee County Landfill | T.51.N.R.8.E. Sec.21, U.S. Hwy 285 10M North of Salida | Salida | CO | 81201 | Department of Interior | CERCLA 103 | 21
Kelly Silver Mine | Hwy 395 | Red Mountain | CA | 93558 | Interior-Bureau of Land Management | CERCLA 103
Kelly Silver Mine | Hwy 395 | Red Mountain | CA | 93558 | Department of Interior | CERCLA 103 | 21
Pond Mine | Sec 3, T12N R10E Mdbm | Forest Hill | CA | 95631 | Interior-Bureau of Land Management | CERCLA 103
Pond Mine | Sec 3, T12N R10E Mdbm | Forest Hill | CA | 95631 | Department of Interior | CERCLA 103 | 21
Poore Mine | Benedict Canyon Lane | Nevada Co | CA |  | Interior-Bureau of Land Management | CERCLA 103
Poore Mine | Benedict Canyon Lane | Nevada Co | CA |  | Department of Interior | CERCLA 103 | 21
USDOI BLM Idora Mine and Mill Site | Carbon Center Road, 10 Mi SE of Pritchard, 10 Mi N of Wallace, T49N R5E Sec 30 | Wallace | ID | 83873 | Interior-Bureau of Land Management | Other
USDOI BLM Idora Mine and Mill Site | Carbon Center Road, 10 Mi SE of Pritchard, 10 Mi N of Wallace, T49N R5E Sec 30 | Wallace | ID | 83873 | Department of Interior | Other | 21
Overton Gravel Pit Trespass Site | 1/4 Mi W of Hwy 169 | Overton | NV | 89040 | Interior-Bureau of Reclamation | RCRA 3010
Overton Gravel Pit Trespass Site | 1/4 Mi W of Hwy 169 | Overton | NV | 89040 | Department of Interior | RCRA 3010 | 21
USDOI Br Hazardous Waste Site | T19N R23E Sec 31, Willamette Meridian, 25 Mi W of George, 35 Mi SW of Quincy | Quincy | WA | 98848 | Interior-Bureau of Reclamation | RCRA 3010
BR Quincy Illegal Dump Site | T19N R23E Sec 31, Willamette Meridian, 25 Mi W of George, 35 Mi SW of Quincy | Quincy | WA | 98848 | Department of Interior | RCRA 3010 | 22
US Geological Survey-Marine Facility (Marfac) | 599 Seaport Blvd | Redwood City | CA | 94063 | USDOI-BLM | RCRA 3010
US Geological Survey-Marine Facility (Marfac) | 599 Seaport Blvd | Redwood City | CA | 94063 | Department of Interior | RCRA 3010 | 21
National Park Svc/De Water Gap | Pioneer Trail | Pahaquarry | NJ | 07825 | NPS | RCRA 3010
National Park Svc/De Water Gap | Pioneer Trail | Pahaquarry | NJ | 07825 | Department of Interior | RCRA 3010 | 21
FBI Academy | 15 Hogans Alley | Quantico | VA | 22135 | FBI | RCRA 3010
FBI Academy | 15 Hogans Alley | Quantico | VA | 22135 | Department of Justice | RCRA 3010 | 21
Transportation Security Administration | 300 Rogers Blvd | Honolulu | HI | 96819 | Treasury | RCRA 3010
Transportation Security Administration | 300 Rogers Blvd | Honolulu | HI | 96819 | Department of Homeland Security | RCRA 3010 | 21
IRS Philadelphia Service Center | 11601 Roosevelt Blvd | Philadelphia | PA | 19255 | *** Unknown *** | RCRA 3010
IRS Philadelphia Service Center | 11601 Roosevelt Blvd | Philadelphia | PA | 19255 | Department of Treasury | RCRA 3010 | 21
IRS-Washington | 1111 Constitution Ave, NW | Washington | DC | 20032 | *** Unknown *** | CERCLA 103
IRS-Washington | 1111 Constitution Ave, NW | Washington | DC | 20032 | Department of Treasury | CERCLA 103 | 21
United States Mint | 155 Herman Street | San Francisco | CA | 94102 | *** Unknown *** | RCRA 3010
United States Mint | 155 Herman Street | San Francisco | CA | 94102 | Department of Treasury | RCRA 3010 | 21
Bureau of Engraving and Printing Western Currency Facility | 9000 Blue Mound Rd-1 Mile South Fm | Fort Worth | TX | 76131 | *** Unknown *** | RCRA 3010
Bureau of Engraving and Printing Western Currency Facility | 9000 Blue Mound Rd-1 Mile South Fm | Fort Worth | TX | 76131 | Department of Treasury | RCRA 3010 | 21
Bureau of Engraving & Printing | 14Th & C Sts SW | Washington | DC | 20228 | *** Unknown *** | RCRA 3005
Bureau of Engraving & Printing | 14Th & C Sts SW | Washington | DC | 20228 | Department of Treasury | RCRA 3005 | 21
Urbandale Bulk Mail Center | 4000 NW 109th Street | Urbandale | IA | 50395 | *** Unknown *** | RCRA 3016
Urbandale Bulk Mail Center | 4000 NW 109th Street | Urbandale | IA | 50395 | US Postal Service | RCRA 3016 | 21
U.S. Postal Service | 135 A Street | Boston | MA | 02210 | *** Unknown *** | RCRA 3010
U.S. Postal Service | 135 A Street | Boston | MA | 02210 | US Postal Service | RCRA 3010 | 21
U.S. Postal Service Incoming Mail Center | 307 Becham St | Chelsea | MA | 02150 | *** Unknown *** | CERCLA 103
U.S. Postal Service Incoming Mail Center | 307 Becham St | Chelsea | MA | 02150 | US Postal Service | CERCLA 103 | 21
USPS Vehicle Maint Fac Fairbanks | 5400 Mail Trail Way | Fairbanks | AK | 99709 | *** Unknown *** | RCRA 3010
USPS Vehicle Maint Fac Fairbanks | 5400 Mail Trail Way | Fairbanks | AK | 99709 | US Postal Service | RCRA 3010 | 21
US Postal Service | 5800 W Century Blvd | Los Angeles | CA | 90009 | *** Unknown *** | RCRA 3010
US Postal Service | 5800 W Century Blvd | Los Angeles | CA | 90009 | US Postal Service | RCRA 3010 | 21
USPS Hillcrest Station | 300 E Hillcrest Blvd | Inglewood | CA | 90301-9998 | *** Unknown *** | RCRA 3010
USPS Hillcrest Station | 300 E Hillcrest Blvd | Inglewood | CA | 90301-9998 | US Postal Service | RCRA 3010 | 21
US Postal Service Vehicle Maintenance | 60 W Oliver St | Baltimore | MD | 21201 | *** Unknown *** | RCRA 3010
US Postal Service Vehicle Maintenance | 60 W Oliver St | Baltimore | MD | 21201 | US Postal Service | RCRA 3010 | 21
North Charleston Post office | 0.7 Mile North of Aviation | North Charleston | SC | 29410 | *** Unknown *** | CERCLA 103
North Charleston Post office | 0.7 Mile North of Aviation | North Charleston | SC | 29410 | US Postal Service | CERCLA 103 | 21
US Postal Service Bacon Station | Stratford Dr | Bloomingdale | IL | 60117-7000 | *** Unknown *** | RCRA 3010
US Postal Service Bacon Station | Stratford Dr | Bloomingdale | IL | 60117-7000 | US Postal Service | RCRA 3010 | 21
US Postal Service Vehicle Maintenance Facility | Stratford Dr | Bloomingdale | IL | 60117-7000 | *** Unknown *** | RCRA 3010
US Postal Service Vehicle Maintenance Facility | Stratford Dr | Bloomingdale | IL | 60117-7000 | US Postal Service | RCRA 3010 | 21
Aurora Post office Site (New) | N Broadway (Rt. 25) and Indiana Circle | Aurora | IL | 60505 | *** Unknown *** | CERCLA 103
Aurora Post office Site | N Broadway (Rt. 25) and Indiana Circle | Aurora | IL | 60505 | US Postal Service | CERCLA 103 | 22
Madison Post office | 3902 Milwaukee St | Madison | WI | 53714 | *** Unknown *** | RCRA 3010
Madison Post office | 3902 Milwaukee St | Madison | WI | 53714 | US Postal Service | RCRA 3010 | 21
Minneapolis St. Paul Bulk Mail Center | 3165 S. Lexington Ave | St. Paul | MN | 55121 | *** Unknown *** | RCRA 3010
Minneapolis St. Paul Bulk Mail Center | 3165 S. Lexington Ave | St. Paul | MN | 55121 | US Postal Service | RCRA 3010 | 21
Monroe Post office | 210 W Front St | Monroe | MI | 48161 | *** Unknown *** | RCRA 3010
Monroe Post office | 210 W Front St | Monroe | MI | 48161 | US Postal Service | RCRA 3010 | 21
Campbell Postal Service | 1587 Dell Avenue | Campbell | CA | 95006 | *** Unknown *** | CERCLA 103
Campbell Postal Service | 1587 Dell Avenue | Campbell | CA | 95006 | US Postal Service | CERCLA 103 | 21
City of Industry Postal Service | 15421 E. Gale Ave | City of Industry | CA | 91745 | *** Unknown *** | CERCLA 103
City of Industry Postal Service | 15421 E. Gale Ave | City of Industry | CA | 91745 | US Postal Service | CERCLA 103 | 21
Herbert C. Hoover Building (Aka: Main Commerce). | 1401 Constitution Ave. NW, Room 7603 | Washington | DC | 20230 | Dept of Commerce | 3010
Herbert C. Hoover Building (Aka: Main Commerce). | 1401 Constitution Ave. NW, Room 7603 | Washington | DC | 20230 | General Services Administration | 3010 | 21
Arlington Defense Printing Service office | Rmbe 854 The Pentagon | Arlington | VA | 20301 | Army | 3010
Pentagon | Pentagon Reservation | Arlington | VA | 22204 | Department of Defense | 3010 | 21
Allegheny National Forest | 222 Liberty Street Box 847 | Warren | PA | 16365 | Department of Agriculture | 103(c), 3016
Allegheny National Forest—McKinley Tar Pits | Township Road 317, .5 mile east of Rte. 66 | Kane | PA | 16735 | Department of Agriculture | 103(c), 3016 | 20A

[FR Doc. 2015-20248 Filed 8-14-15; 8:45 am]

BILLING CODE 6560-50-P